DEPARTMENT OF TRANSPORTATION

Federal Transit Administration

Intent To Prepare a Supplemental Draft Environmental Impact Statement for the Southwest Light Rail Transit Extension Project (Formerly Referred to as the Southwest Transitway)

AGENCY: Federal Transit Administration (FTA), Department of Transportation.

ACTION: Notice of Intent to prepare a Supplemental Draft Environmental Impact Statement

SUMMARY: The Federal Transit Administration (FTA), the Federal lead agency, and the Metropolitan Council (Council), the local lead agency, intend to publish a Supplemental Draft Environmental Impact Statement (SDEIS) for the Southwest Light Rail Transit Extension (SWLRT) Project (formerly referred to as the Southwest Transitway Project), in accordance with the National Environmental Policy Act (NEPA), its implementing regulations, provisions of the Moving Ahead for Progress in the 21st Century (MAP-21), and the Minnesota Environmental Policy Act (MEPA). The original Notice of Intent to prepare a DEIS for the Project was issued on September 23, 2008. The Project's Draft Environmental Impact Statement (DEIS) was published on October 12, 2012, with a public comment period concluding on December 31, 2012. The Project is a new 15.8-mile light rail alignment with 17 new light rail stations, several new park-and-ride lots, and one new light rail operations and maintenance facility (OMF). The project requires modification to existing freight rail alignments within the project vicinity. The SDEIS will evaluate environmental impacts associated with proposed adjustments to the Locally Preferred Alternative, freight rail alignments, and location of the OMF. The SDEIS will also incorporate pertinent issues raised during the DEIS comment period.

For commenting purposes under NEPA, written comments on the scope of the SDEIS should be directed to Ms. Nani Jacobson, Project Manager, Southwest Light Rail Transit Project Office, 6465 Wayzata Boulevard, Suite 500, St. Louis Park, MN 55426, Telephone: 612-373-3808; Email: nani.jacobson@metrotransit.org. Comments on the scope may be submitted within 20 days of publication of the preparation notice in the state publication, the EQB Monitor. Notice in the EQB Monitor is anticipated to be published on July 22, 2013, with the 20 day period for submitting written comments ending on August 12, 2013. In accordance with MEPA, comments received within this period, and responses to the comments, will be included in the SDEIS.

FOR FURTHER INFORMATION CONTACT: For general information on FTA's NEPA review, please contact Maya Sarna, Department of Transportation, 1200 New Jersey Avenue SE., East Building, Washington DC 20590, Telephone: (202) 366-5811.

SUPPLEMENTARY INFORMATION: The SWLRT Project will operate from downtown Minneapolis through the southwestern suburban cities of St. Louis Park, Hopkins, Minnetonka, and Eden Prairie, passing in close proximity to the city of Edina. The proposed alignment is primarily at-grade and will include 17 new stations and approximately 15.8-miles of double track. The line will connect major activity centers in the region including downtown Minneapolis, Methodist Hospital in St. Louis Park, the Opus/Golden Triangle employment area in Minnetonka and Eden Prairie, and, the Eden Prairie Center Mall. Ridership in 2030 is projected at 29,660 weekday passengers. The project will connect with the Green Line (Central Corridor LRT), which will provide a one-seat ride to destinations such as the University of Minnesota, the State Capitol, and downtown St. Paul. The proposed SWLRT will be part of an integrated system of transitways, including connections to the METRO Blue Line, the Northstar Commuter Rail line, a variety of major bus routes along the alignment, and proposed future transitway and rail lines.

The SDEIS will supplement the evaluation of impacts included in the Project's DEIS where there have been adjustments to the design of proposed LRT and freight rail alignments, stations, park-and-ride lots, and an OMF site that would likely result in impacts not documented in the Project's DEIS. FTA and the Council anticipate that the SDEIS scope will include, but not be limited to, the following areas: Eden Prairie LRT alignment and stations; LRT OMF site; freight rail alignments (i.e., Relocation and Co-location); and other areas where FTA and the Council determine that there is a need to be supplemented with additional information which was not included in the Project's October 2012 DEIS.

Notice regarding the intent to prepare the SDEIS will be sent to the appropriate Federal, State, and local agencies. Following publication and review of the SDEIS, a FEIS will be prepared and circulated.

The Paperwork Reduction Act seeks, in part, to minimize the cost to the taxpayer of the creation, collection, maintenance, use, dissemination, and disposition of information. Consistent with this goal and with principles of economy and efficiency in government, it is FTA policy to limit insofar as possible distribution of complete printed sets of NEPA documents. Accordingly, unless a specific request for a complete printed set of the NEPA document is received before the document is printed, FTA and its grant applicants will distribute only electronic copies of the NEPA document. A complete printed set of the environmental document will be available for review at the Metropolitan Council's offices and elsewhere as will be noted in the Notice of Availability; and electronic copy of the complete environmental document will be available on the Metropolitan Council's Southwest Light Rail Transit Project Web site (http://www.swlrt.org).

Issued on: July 11, 2013.
Marisol Simon,
Regional Administrator, FTA Region V.

[FR Doc. 2013-17506 Filed 7-19-13; 8:45 am]

BILLING CODE P